Proclamation 8447 of October 30, 2009

National Diabetes Month, 2009

By the President of the United States of America

A Proclamation

Diabetes directly affects the lives of millions of Americans and their families. While no cure exists, medical advancements are continually producing new, more effective treatments to control the disease. Individuals who manage their diabetes properly can lower their risk of complications and live productive, normal lives. During National Diabetes Month, we recommit to educating Americans about the warning signs of diabetes, and help those with the condition to mitigate the effects of this devastating disease.

The two common forms of diabetes are known as type 1 and type 2. Type 1 diabetes occurs when an individual’s immune system destroys insulin-producing cells. The outlook for those with type 1 diabetes has dramatically improved in the past few decades due to a host of innovations. Type 2 diabetes is the most prevalent form of diabetes, and usually affects individuals age 40 and older, and those who are overweight, inactive, or have a family history of the disease. Every day, 10 children in this country are diagnosed with type 2 diabetes—a staggering statistic that reflects the growing epidemic of obesity in our country.

Preventive care is the simplest way to avoid diabetes and its complications. A healthy diet, combined with daily exercise, has been shown to dramatically reduce incidence of this disease. African Americans, Latinos, and Native Americans, as well as the elderly, are at greater risk of developing diabetes over their lifetimes. As a Nation, we must ensure that all Americans know the warning signs of this disease, and if diagnosed, have access to affordable, quality medical care to help control it.

While diabetes is a complex and challenging disease, dedicated researchers continue to make important discoveries. This month, we honor those who have made these successes possible, support those who are battling diabetes, and rededicate ourselves to sustaining Federal investments in research and education programs that improve the prevention and treatment of this disease.

NOW, THEREFORE, I, BARACK OBAMA, President of the United States of America, by virtue of the authority vested in me by the Constitution and the laws of the United States, do hereby proclaim November 2009 as National Diabetes Month. I encourage citizens, medical institutions, Government and social service agencies, businesses, non-profit organizations, and other interested groups to join in activities that help prevent, treat, and manage diabetes.

IN WITNESS WHEREOF, I have hereunto set my hand this thirtieth day of October, in the year of our Lord two thousand nine, and of the Independence of the United States of America the two hundred and thirty-fourth.

[FR Doc. E9-26762

Filed 11-3-09; 11:15 am]

Billing code 3195-W9-P